DEPARTMENT OF ENERGY

Federal Energy Regulatory Commission

Combined Notice of Filings

Take notice that the Commission has received the following Natural Gas Pipeline Rate and Refund Report filings:

Docket Numbers: RP21-310-000.

Applicants: NGO Transmission, Inc.

Description: § 4(d) Rate Filing: Negotiated Rate Filing to be effective 1/1/2021.

Filed Date: 12/16/20.

Accession Number: 20201216-5006.

Comments Due: 5 p.m. ET 12/28/20.

Docket Numbers: RP21-311-000.

Applicants: Northwest Pipeline LLC.

Description: § 4(d) Rate Filing: Revise Customer-Specific Entitlement Provisions—GT&C 14.6 & 15.3 to be effective 1/16/2021.

Filed Date: 12/16/20.

Accession Number: 20201216-5069.

Comments Due: 5 p.m. ET 12/28/20.

Docket Numbers: RP21-312-000.

Applicants: Sea Robin Pipeline Company, LLC.

Description: Compliance filing Annual Flowthrough Crediting Mechanism Filing on 12/16/20 to be effective N/A.

Filed Date: 12/16/20.

Accession Number: 20201216-5070.

Comments Due: 5 p.m. ET 12/28/20.

Docket Numbers: RP21-313-000.

Applicants: Iroquois Gas Transmission System, L.P.

Description: § 4(d) Rate Filing: 121620 Negotiated Rates—Freepoint Commodities LLC R-7250-30 to be effective 1/1/2021.

Filed Date: 12/16/20.

Accession Number: 20201216-5096.

Comments Due: 5 p.m. ET 12/28/20.

Docket Numbers: RP21-314-000.

Applicants: Iroquois Gas Transmission System, L.P.

Description: § 4(d) Rate Filing: 121620 Negotiated Rates—Freepoint Commodities LLC R-7250-31 to be effective 1/1/2021.

Filed Date: 12/16/20.

Accession Number: 20201216-5097.

Comments Due: 5 p.m. ET 12/28/20.

Docket Numbers: RP21-315-000.

Applicants: Guardian Pipeline, L.L.C.

Description: § 4(d) Rate Filing: Update Non-Conform Agmt RW0068-Wisconsin Elec Power Co to be effective 1/16/2021.

Filed Date: 12/16/20.

Accession Number: 20201216-5147.

Comments Due: 5 p.m. ET 12/28/20.

Docket Numbers: RP21-316-000.

Applicants: Guardian Pipeline, L.L.C.

Description: § 4(d) Rate Filing: Update Part 6.0 Reserving for Future Use to be effective 1/16/2021.

Filed Date: 12/16/20.

Accession Number: 20201216-5151.

Comments Due: 5 p.m. ET 12/28/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 17, 2020.
Kimberly D. Bose,
Secretary.

[FR Doc. 2020-28389 Filed 12-22-20; 8:45 am]

BILLING CODE 6717-01-P